FEDERAL TRADE COMMISSION

SES Performance Review Board

AGENCY: Federal Trade Commission.

ACTION: Notice.

SUMMARY: Notice is hereby given of the appointment of members to the FTC Performance Review Board.

FOR FURTHER INFORMATION CONTACT: Janet Silva, Director of Human Resources, 600 Pennsylvania Avenue, NW., Washington, DC 20580, (202) 326-2022.

SUPPLEMENTARY INFORMATION: Publication of the Performance Review Board (PRB) membership is required by 5 U.S.C. 4314(c)(4). The PRB reviews and evaluates the initial appraisal of a senior executive's performance by the supervisor, and makes recommendations regarding performance ratings to the Chairman.

The following individuals have been designated to serve on the Commission's Performance review Board:

Rosemarie A. Straight, Executive Director, Chair.

Howard J. Beales, Director, Bureau of Consumer Protection.

William E. Kovacic, General Counsel.

Donald S. Clark,
Secretary.

[FR Doc. 03-27013 Filed 10-24-03; 8:45 am]

BILLING CODE 6750-01-M